DEPARTMENT OF JUSTICE

National Institute of Justice

[OJP (NIJ)-1274]

Announcement of the Availability of the National Institute of Justice Solicitation for a National Evaluation of the Domestic Violence Victims' Civil Legal Assistance Program.

AGENCY: Office of Justice Programs, National Institute of Justice, Justice.

ACTION: Notice of solicitation.

SUMMARY: Announcement of the availability of the National Institute of Justice “National Evaluation of the Domestic Violence Victims' Civil Legal Assistance Program.”

DATES: Proposals must be received by close of business July 10, 2000.

ADDRESSES: National Institute of Justice, 810 Seventh Street NW, Washington, DC 20531.

FOR FURTHER INFORMATION CONTACT: For a copy of the solicitation, please call NCJRS 1-800-851-3420. For general information about application procedures for solicitations, please call the U.S. Department of Justice Response Center, 1-800-421-6770.

SUPPLEMENTARY INFORMATION:

Authority

This action is authorized under the Omnibus Crime Control and Safe Streets Act of 1968, Sections 201-03, as amended, 42 U.S.C. 3721-23 (1994).

Background

This announcement solicits proposals for a National Evaluation of the Violence Against Women Office's (VAWO) Domestic Violence Victims' Civil Legal Assistance Program. A description of this VAWO program can be found at http://www.ojp.usdoj.gov/vawo/grants/civil/descrip.htm.

The purpose of this national evaluation is to: (1) Document the range of local activities and programs supported by the FY1998, FY1999, and FY2000 Violence Against Women Office (VAWO) grants to provide civil legal assistance; (2) document local programs funded by other sources of assistance, the gaps these programs fill, whom they serve, and how VAWO funded programs fit into the larger funding picture in a jurisdiction; (3) examine and document grantee planning and implementation efforts; (4) evaluate the need for the adequacy of special conditions imposed on grantees to preserve victim safety and confidentiality, while simultaneously enhancing the professional services offered by grantees; and (5) determine the effectiveness of these programs in meeting the needs of the women they serve.

Under this solicitation, one evaluation project of up to $800,000 will be funded for a period of up to 36 months.

Interested organizations should call the National Criminal Justice Reference Service (NCJRS) at 1-800-3420 to obtain a copy of “National Evaluation of the Domestic Violence Victims' Civil Legal Assistance Program” (refer to document No. SL000424). For World Wide Web access, connect to either NIJ at http://www.ojp.usdoj.gov/nij/funding.htm, or the NCJRS Justice Information Center at http://www.ncjrs.org/fedgrant.htm#nij.

Julie E. Samuels,
Acting Director, National Institute of Justice.

[FR Doc. 00-12564 Filed 5-17-00; 8:45 am]

BILLING CODE 4410-18-M